DEPARTMENT OF ENERGY

Federal Energy Regulatory Commission

[Project No. 2210-087]

Appalachian Power Company; Notice of Availability of Environmental Assessment

September 15, 2003.

In accordance with the National Environmental Policy Act of 1969 and the Federal Energy Regulatory Commission's (Commission) regulations, 18 CFR part 380 (Order No. 486, 52 FR 47897), the staff of the Office of Energy Projects has prepared an Environmental Assessment (EA) for an application requesting Commission approval to permit Willard Construction of Roanoke Valley, Inc. (permittee) to install and operate four stationary docks with 12 covered boat slips and two floating docks each for a total of forty-eight boat slips and eight floating slips at South Pointe Condominiums at The Waterfront. No dredging is planned as part of this proposal. The Smith Mountain Project is located on the Roanoke and Blackwater Rivers in Bedford, Campbell, Pittsylvania, Franklin, and Roanoke Counties, Virginia.

The EA contains the staff's analysis of the potential environmental impacts of the proposal and concludes that approval of the proposal would not constitute a major federal action that would significantly affect the quality of the human environment.

A copy of the EA is available for review at the Commission in the Public Reference Room, or it may be viewed on the Commission's Web site at http://www.ferc.gov using the “eLibrary” link. Enter the docket number (prefaced by P-) and excluding the last three digits, in the docket number field to access the document. For assistance, call (202) 502-8222 or (202) 502-8659 (for TTY).

For further information, contact Heather Campbell at 202-502-6182.

Magalie R. Salas,
Secretary.

[FR Doc. 03-24151 Filed 9-18-03; 12:01 pm]

BILLING CODE 6717-01-P